DEPARTMENT OF AGRICULTURE

Food and Nutrition Service

Agency Information Collection Activities: Proposed Collection; Comment Request WIC Nutrition Assessment and Tailoring Study

AGENCY: Food and Nutrition Service (FNS), USDA.

ACTION: 60-Day notice and request for comments.

SUMMARY: In accordance with the Paperwork Reduction Act of 1995, this notice invites the general public and other public agencies to comment on this proposed information collection for the Special Supplemental Nutrition Program for Women, Infants, and Children (WIC) Nutrition Assessment and Tailoring Study. This new information collection will provide the U.S. Department of Agriculture, Food and Nutrition Service (FNS) with a comprehensive, detailed description of the WIC nutrition risk assessment process and the ways in which WIC clinics tailor participant benefits to address the results of the assessment. This collection will also identify specific practices or features of the nutrition services process associated with high levels of participant and staff satisfaction, reduced staff burden, and improved Program efficiency.

DATES: Written comments must be received on or before September 17, 2019.

ADDRESSES: Comments may be sent to: Courtney Paolicelli, Office of Policy Support, Food and Nutrition Service, USDA, 3101 Park Center Drive, Room 1014, Alexandria, VA 22302. Comments may also be submitted via fax to the attention of Courtney Paolicelli at 703-305-2576 or via email to Courtney.Paolicelli@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information on or copies of this information collection should be directed to Courtney Paolicelli at Courtney.Paolicelli@usda.gov.

SUPPLEMENTARY INFORMATION: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Title: WIC Nutrition Assessment and Tailoring Study.

Form Number: Not applicable.

OMB Number: Not Yet Assigned.

Expiration Date: Not Yet Determined.

Type of Request: New collection.

Abstract: The Special Supplemental Nutrition Program for Women, Infants, and Children (WIC) provides supplemental foods, nutrition education and breastfeeding support, and referrals to health care and other social services to safeguard the health of low-income women, infants, and children up to 5 years of age who are at nutritional risk. As part of the certification and recertification process, WIC staff perform a comprehensive nutrition risk assessment with each participant to screen for certain nutrition risks and collect other relevant dietary and health information. Based on the nutrition risk assessment, WIC staff can individualize the food package benefits, nutrition education, and referrals the participant and child receive to meet their unique nutritional needs. While guidelines for conducting a quality nutrition risk assessment are described in the Value Enhanced Nutrition Assessment (VENA) guidance,¹ there is flexibility in how WIC staff conduct the nutrition risk assessment, and specifics of the process may vary by WIC State Agency (SA) and by WIC Local Agency (LA). Through this study, FNS seeks to better understand the nutrition services process as it transpires at WIC clinics, and WIC staff and participants' satisfaction with the process. The findings from this study will be used to develop guidance for WIC staff to enhance service delivery to improve program satisfaction, retention, and participant health and nutrition outcomes.

¹ U.S. Department of Agriculture Food and Nutrition Service. VENA Value Enhanced Nutrition Assessment. Available at: https://wicworks.fns.usda.gov/resources/value-enhanced-nutrition-assessment-vena-guidance.

The four study objectives are: (1) Provide in-depth descriptive information on how a large, diverse sample of local WIC agencies performs the WIC nutrition risk assessment; (2) Systematically describe how a national sample of diverse local WIC agencies uses the collection of nutrition risk assessment information to tailor program benefits, including food packages, nutrition education, breastfeeding promotion and support, and referrals to health and social services; (3) Investigate relationships between WIC nutrition risk services processes (to include the nutrition risk assessment and the associated tailoring of program benefits), and the clinic experience, participant and staff perceptions, and overall clinic flow and efficiency; and (4) Identify specific practices or features of nutrition risk service processes that facilitate the use of nutrition assessment information for providing tailored program benefits, and that are associated with participant and staff satisfaction.

A tiered study design that yields a diverse, national sample of SAs, LAs, WIC clinic sites, and WIC participants will be used to address the four study objectives. SAs will be selected using FNS administrative data, including data from the WIC Participant and Program Characteristics Study (OMB# 0584-0609, expiration 8/31/2019). All LAs within the selected SAs will be asked to provide additional data about their LA via a web survey. WIC Clinics will be selected for site visits based on characteristics of the LA.² WIC participants will be selected during site visits. Quantitative and qualitative data will be collected from SAs, LAs, WIC Clinics and WIC participants.

² A subset of LAs will be selected within each SA based on sociodemographic and nutrition education characteristics; one WIC Clinic will be selected per LA in the subset.

Affected Public: Respondent groups identified include: (1) State, local, and tribal governments (WIC State agencies, local agencies, and clinics); (2) Businesses/Non-Profits; (WIC local agencies and clinic sites); and (3) Individuals (adults who participate in WIC or who have children that participate in WIC).

Estimated Number of Respondents: The total estimated number of respondents is 1,454 (885 respondents and 569 non-respondents). The total includes 13 State agencies, 378 local agencies (262 government and 116 business), 39 clinics (22 government and 17 business), and 1,024 individuals.

Estimated Frequency of Response: The estimated frequency of response is 6.17 annually for respondents and 3.54 annually for non-respondents.

Estimated Total Annual Responses: The estimated total number of annual responses is 7,473. This includes 5,458 for respondents and 2,015 for non-respondents.

Estimated Time per Response: The estimated average response time is 0.12 hours for all respondents (0.15 hours for responsive participants and 0.02 hours for nonresponsive participants). The estimated time of response varies from one minute (0.02 hours) to approximately four hours (3.68 hours) depending on the respondent group and activity, as shown in table 1. The average estimated time per response across all respondents is 0.12 hours (equal to 869.33 (total annual burden hours for both respondents and non-respondents) divided by 7,473 (total responses for both respondents and non-respondents), as shown in table 1.

Estimated Total Annual Burden on Respondents: The total public reporting burden for this collection of information is estimated at 869.33 hours (annually). See Table 1 (Total Public Burden Hours) for estimated total annual burden for each type of respondent.

Dated: July 12, 2019.
Brandon Lipps,
Administrator, Food and Nutrition Service.

BILLING CODE 3410-30-P

[FR Doc. 2019-15401 Filed 7-18-19; 8:45 am]

BILLING CODE 3410-30-C